DEPARTMENT OF HOMELAND SECURITY

Coast Guard

[Docket No. USCG-2013-0225]

Certificate of Alternative Compliance for the NOAA Research Vessel FSV-6 RUBEN LASKER, 9664988

AGENCY: Coast Guard, DHS.

ACTION: Notice.

SUMMARY: The Coast Guard announces that a Certificate of Alternative Compliance was issued for the NOAA research vessel FSV-6 RUBEN LASKER as required by 33 U.S.C. 1605(c) and 33 CFR 81.18.

DATES: The Certificate of Alternative Compliance was issued on December 20, 2012.

ADDRESSES: The docket for this notice is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, inserting USCG-2013-0225 in the “SEARCH” box, and then clicking “Search.”

FOR FURTHER INFORMATION CONTACT: If you have questions on this notice, call LT Steven Melvin, District Nine, Prevention Branch, U.S. Coast Guard, telephone 216-902-6343. If you have questions on viewing or submitting material to the docket, call Barbara Hairston, Program Manager, Docket Operations, telephone 202-366-9826.

SUPPLEMENTARY INFORMATION:

Background and Purpose

A Certificate of Alternative Compliance, as allowed for under 33 U.S.C. 1605(c) and 33 CFR 81.18, has been issued for the NOAA research vessel FSV-6 RUBEN LASKER. The vessel's primary purpose is to conduct oceanographic research around the world. The unique design of the vessel did not lend itself to full compliance with Annex I of the Inland Rules Act.

The Commandant, U.S. Coast Guard, certifies that full compliance with the Inland Rules Act would interfere with the special functions/intent of the vessel and would not significantly enhance the safety of the vessel's operation. Placing the special purpose fishing and stern light in the required position would interfere with the vessel's science and boat/davit operations.

The Certificate of Alternative Compliance authorizes the NOAA research vessel FSV-6 RUBEN LASKER to deviate from the requirements set forth in Annex I of the Inland Rules Act by placing its special purpose fishing lights on the main masthead at FR50 and the stern light at the stern at FR100.

This notice is issued under authority of 33 U.S.C. 1605(c), and 33 CFR 81.18.

Dated: May 10, 2013.
S.E. Anderson,
Commander, U.S. Coast Guard, Acting Chief, Prevention Division, By Direction of the Commander, Ninth Coast Guard District.

[FR Doc. 2013-14080 Filed 6-12-13; 8:45 am]

BILLING CODE 9110-04-P